OFFICE OF THE UNITED STATES TRADE REPRESENTATIVE

[Docket No. WTO/DS-260]

WTO Consultations Regarding EC Provisional Safeguard Measures Against Imports of Certain Steel Products

AGENCY: Office of the United States Trade Representative.

ACTION: Notice; request for comments.

SUMMARY: The Office of the United States Trade Representative (USTR) is providing notice that on May 30, 2002, the United States requested consultations with the European Communities (EC) under the Marrakesh Agreement Establishing the World Trade Organization (WTO), regarding the imposition of provisional safeguard measures against imports of certain steel products. These measures appear to be inconsistent with the EC's obligations under the provisions of the GATT 1994 and of the WTO Agreement on Safeguards, and, in particular, Article XIX of the GATT 1994 and Articles 2, 3, 4, 6, and 12 of the Agreement on Safeguards. Pursuant to Article 4.3 of the WTO Dispute Settlement Understanding (DSU), such consultations are to take place within a period of 30 days from the date of the request, or within a period otherwise mutually agreed between the United States and the EC. USTR invites written comments from the public concerning the issues raised in this dispute.

DATES: Although the USTR will accept any comments received during the course of the dispute settlement proceedings, comments should be submitted on or before June 21, 2002, to be assured of timely consideration by USTR.

ADDRESSES: Submit comments to Sandy McKinzy, Monitoring and Enforcement Unit, Office of the General Counsel, Room 122, Office of the United States Trade Representative, 600 17th Street, NW., Washington, DC, 20508, Attn: Dispute on EC Safeguard Measures on Steel, Telephone: (202) 395-3581.

FOR FURTHER INFORMATION CONTACT: L. Daniel Mullaney, Associate General Counsel, Office of the United States Trade Representative, 600 17th Street, NW., Washington, DC, (202) 395-3581.

SUPPLEMENTARY INFORMATION: Section 127(b) of the Uruguay Round Agreements Act (URAA) (19 U.S.C. 3537(b)(1)) requires that notice and opportunity for comment be provided after the United States submits or receives a request for the establishment of a WTO dispute settlement panel. Consistent with this obligation, but in an effort to provide additional opportunity for comment, USTR is providing notice that consultations have been requested pursuant to the WTO Dispute Settlement Understanding. If such consultations should fail to resolve the matter and a dispute settlement panel is established pursuant to the DSU, such panel, which would hold its meetings in Geneva, Switzerland, would be expected to issue a report on its findings and recommendations within six to nine months after it is established.

Major Issues Raised by the United States

On March 28, 2002, the EC published Commission Regulation No. 560/2002 of 27 March 2002, imposing provisional safeguard measures on certain steel products, effective March 29, 2002. These products are non alloy hot rolled coils, non alloy hot rolled sheets and plates, non alloy hot rolled narrow strip, alloy hot rolled flat products, cold rolled sheets, electrical sheets (other than GOES), tin mill products, quarto plates, wide flats, non alloy merchant bars and light sections, alloy merchant bars and light sections, rebars, stainless steel wire, fittings (<609,6mm) and flanges (other than of stainless steel). These measures appear to be inconsistent with at least the following provisions of the GATT 1994 and the WTO #Agreement on Safeguards:

• Article 6 of the Agreement on Safeguards, in conjunction with Articles 2.1, 4.1 and 4.2 of the Agreement on Safeguards and Article XIX of the GATT 1994, which permits the taking of a provisional safeguard measure only pursuant to a preliminary determination that there is clear evidence that increased imports have caused or are threatening to cause serious injury to the domestic industry that produces like or directly competitive products.

• Article 6 of the Agreement on Safeguards and Article XIX of the GATT 1994, which provide that Members may take provisional safeguard measures only in critical circumstances, where delay would cause damage which it would be difficult to repair.

• Articles 3 and 6 of the Agreement on Safeguards, which, inter alia, (1) require that any provisional safeguard measure be taken only pursuant to a preliminary determination based on clear evidence; (2) require that any safeguard measure be taken only following an investigation by the competent authorities of the Member pursuant to procedures previously established and made public in consonance with Article X of the GATT 1994; (3) require notice and opportunity for all interested parties to be heard; and (4) require the publication of a report setting forth findings and reasoned conclusions reached on all pertinent issues of fact and law.

• Article 12.1 of the Agreement on Safeguards, which requires Members immediately to notify the Committee on Safeguards upon (a) initiating an investigation relating to serious injury or threat thereof and the reasons for it, (b) upon making a finding of serious injury or threat thereof caused by increased imports, and (c) taking a decision to apply or extend a safeguard measure.

• Article 2.2 of the Agreement on Safeguards, and Article I of the GATT 1994, by applying its safeguard measures to the goods of some WTO Members, while excluding the goods of other countries whose territories are not part of a free trade area or a customs union and who are not developing country WTO Members.

• Article XIX:1(a) of the GATT 1994, which allows a WTO Member to impose a safeguard measure only if, as a result of unforeseen developments, a product is being imported in such increased quantities and under such conditions as to cause or threaten serious injury to domestic producers of the like or directly competitive products.

Public Comment: Requirements for Submissions

Interested persons are invited to submit written comments concerning the issues raised in the dispute. Comments must be in English and provided in fifteen copies. A person requesting that information contained in a comment submitted by that person be treated as confidential business information must certify that such information is business confidential and would not customarily be released to the public by the commenter. Confidential business information must be clearly marked “BUSINESS CONFIDENTIAL” in a contrasting color ink at the top of each page of each copy.

Information or advice contained in a comment submitted, other than business confidential information, may be determined by USTR to be confidential in accordance with section 135(g)(2) of the Trade Act of 1974 (19 U.S.C. 2155(g)(2)). If the submitter believes that information or advice may qualify as such, the submitter—

(1) Must so designate the information or advice;

(2) Must clearly mark the material as “SUBMITTED IN CONFIDENCE” in a contrasting color ink at the top of each page of each copy; and

(3) Is encouraged to provide a non-confidential summary of the information or advice.

Pursuant to section 127(e) of the URAA (19 U.S.C. 3537(e)), USTR will maintain a file on this dispute settlement proceeding, accessible to the public, in the USTR Reading Room, which is located at 1724 F Street, NW., Washington, DC 20508. The public file will include non-confidential comments received by USTR from the public with respect to the dispute; if a dispute settlement panel is convened, the U.S. submissions to that panel, the submissions, or non-confidential summaries of submissions, to the panel received from other participants in the dispute, as well as the report of the panel; and, if applicable, the report of the Appellate Body. An appointment to review the public file (Docket WTO/DS-260, Dispute on EC Safeguard Measures on Steel) may be made by calling Brenda Webb, (202) 395-6186. The USTR Reading Room is open to the public from 9:30 a.m. to 12 noon and 1 p.m. to 4 p.m., Monday through Friday.

Bruce R. Hirsh,
Acting Assistant United States Trade Representative for Monitoring and Enforcement.

[FR Doc. 02-14896 Filed 6-12-02; 8:45 am]

BILLING CODE 3190-01-P